ENVIRONMENTAL PROTECTION AGENCY

[EPA-HQ-OPPT-2007-0279; FRL-8130-7]

Army Chemical Agent Rocket Incinerator Approval to Dispose of Polychlorinated Biphenyls under the Toxic Substances Control Act; Notice of Application to Renew, Data Availability, and Modification of Existing Approval

AGENCY: Environmental Protection Agency (EPA).

ACTION: Notice.

SUMMARY: The Department of the Army (Army) has applied to renew an approval to dispose of polychlorinated biphenyls (PCBs) under the Toxic Substances Control Act (TSCA). The renewal would allow the Army to continue to incinerate M55 chemical agent rockets containing PCBs using the Deactivation Furnace Systems (DFS). This action announces: EPA’s consideration of the Army’s application, the availability of trial burn data that will inform EPA’s consideration, and the modification of the public participation condition of the Army’s existing approval. EPA is requesting comments on the renewal application and trial burn data.

DATES: Comments must be received on or before June 11, 2007].

ADDRESSES: Submit your comments, identified by docket identification (ID) number EPA-HQ-OPPT-2007-0279, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2007-0279. The DCO is open from 8 a.m. to 4 p.m., Monday through Friday, excluding legal holidays. The telephone number for the DCO is (202) 564-8930. Such deliveries are only accepted during the DCO’s normal hours of operation, and special arrangements should be made for deliveries of boxed information.

Instructions: Direct your comments to docket ID number EPA-HQ-OPPT-2007-0279. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA’s public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. In this instance, because of the enormity of the volume of data, EPA has posted a summary (entitled “Executive Summary”) of the trial burn report from each facility. If the interested party needs more information than is found in the Executive Summary, complete trial burn data is available on compact disc (CD). To obtain a CD, please contact the technical information contact listed under FOR FURTHER INFORMATION CONTACT. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Hiroshi Dodohara, National Program Chemicals Division (7404T), Office of Pollution Prevention and Toxics, Environmental Protection Agency, 1200 Pennsylvania Ave., NW., Washington, DC 20460-0001; telephone number: (202) 566-0507; e-mail address: dodahara.hiroshi@epa.gov.

SUPPLEMENTARY INFORMATION:

I. General Information

A. Does this Action Apply to Me?

Potentially affected entities may include, but are not limited to:

• Department of the Army (NAICS code 928110).

• Residents or homeowners located near the affected incinerators.

This list is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

A. Background

In 2002, EPA issued a PCB disposal approval under TSCA section 6(e) and 40 CFR 761.70(d) to the Army to allow for the incineration of M55 chemical agent rockets containing PCBs using Deactivation Furnace Systems (DFS). The existing approval is included in the docket for this notice. The approval allows for the disposal to occur at four separate facilities: Anniston Chemical Agent Disposal Facility, Anniston Army Depot, Anniston, Alabama (ANCDF); Pine Bluff Chemical Agent Disposal Facility, Pine Bluff Arsenal, Pine Bluff, Arkansas (PBCDF); Tooele Chemical Agent Disposal Facility, Deseret Chemical Depot, Tooele, Utah (TOCDF); and Umatilla Chemical Agent Disposal Facility, Umatilla Chemical Depot, near Hermiston, Oregon (UMCDF). The Army has now applied to renew that approval, which is currently set to expire July 6, 2007. The Army’s renewal application only applies to PBCDF and UMCDF; the other two facilities have completed operations.

B. Application for Renewal

EPA is considering the Army’s request for renewal. The renewal would allow the Army to continue to incinerate M55 chemical agent rockets containing PCBs using DFS at the remaining two sites. Based on the trial burn results, EPA believes the conditions in the current TSCA approval are necessary and adequate to ensure proper disposal of PCBs in compliance with TSCA. However, both PBCDF and UMCDF are currently operating under Resource Conservation and Recovery Act (RCRA) permits as well as the existing PCB approval. These RCRA permits impose several of the same operating conditions as are required by the current TSCA approval. Thus, in order to coordinate the requirements of the two programs, EPA does not plan to include the duplicative conditions in the renewed TCSA approval. EPA intends for the renewal to only retain the operating conditions from the current TSCA approval that are more stringent than those provided in the RCRA permits. These more stringent conditions, combined with the condition that the facilities maintain valid RCRA permits, will ensure proper disposal of PCBs in compliance with TSCA. For example, EPA plans to retain a target value for the secondary combustor operating temperature based on conditions during the trial burn. In addition, the carbon monoxide concentration in the flue gas that triggers the automatic waste feed cutoff (AWFCO) would be 100 parts per million based on real time, with a 5-minute delay.

C. Availability of Trial Burn Data

This action also announces the availability of trial burn data from PBCDF and UMCDF. The current approval required certain sampling for PCBs at each DFS unit:

1. Stack sampling for PCBs.

2. Sampling of kiln/HDC (heated discharge conveyor) residue.

3. Cyclone residue.

4. Scrubber brine for PCB analysis.

The purpose of the trial burns was to demonstrate whether the DFS units meet the PCB incinerator performance standards. These results showed that the standards were met, and the data are now available.

D. Approval Modification

Condition 1.d.(3) of the existing approval, provides that: “EPA will hold a public meeting in each community after the trial burn data in each respective facility becomes available.” (A copy of Condition 1.d.(3) is available in the docket for this document.) Effective at the time of publication of this notice, EPA is hereby modifying the existing approval to remove that condition for the remainder of the approval. Meetings were conducted before and after-trial-burn data became available at ANCDF and TOCDF, but participation was very limited at the post-trial-burn meetings. No members of the public appeared at meetings previously held at PBCDF and UMCDF. Based on the lack of public participation, EPA is changing the public participation process to include a broader audience and a 15-day opportunity for comment. Trial burn data will be available to the public through the docket and in lieu of conducting additional public meetings at PBCDF and UMCDF, EPA is allowing for the submission of comments, in written or electronic format.

List of Subjects

Environmental protection, Hazardous substances, Polychlorinated biphenyls (PCBs), Reporting and recordkeeping requirements.

Dated: May 21, 2007.
Wendy C. Hamnett,
Acting Director, Office of Pollution Prevention and Toxics.

[FR Doc. E7-10117 Filed 5-24-07; 8:45 am]

BILLING CODE 6560-50-S